DEPARTMENT OF COMMERCE

International Trade Administration

[C-580-818]

Corrosion-Resistant Carbon Steel Flat Products From the Republic of Korea: Final Results of Countervailing Duty Administrative Review

AGENCY: Import Administration, International Trade Administration, Department of Commerce.

SUMMARY: On September 14, 2010, the U.S. Department of Commerce (the Department) published in the Federal Register its preliminary results of the administrative review of the countervailing duty (CVD) order on corrosion-resistant carbon steel flat products (CORE) from the Republic of Korea (Korea) for the period of review (POR) January 1, 2008, through December 31, 2008. See Corrosion-Resistant Carbon Steel Flat Products from the Republic of Korea: Preliminary Results and Partial Rescission of Countervailing Duty Administrative Review, 75 FR 55745 (September 14, 2010) (Preliminary Results). We rescinded the administrative review, in part, with respect to Dongbu Steel Co., Ltd. (Dongbu) and Pohang Iron and Steel Co., Ltd. (POSCO) and preliminarily found that Hyundai HYSCO Ltd. (HYSCO) received de minimis countervailable subsidies during the POR. We did not receive any comments on our Preliminary Results, however, we have made revisions regarding two programs as discussed below.

DATES: Effective Date: January 20, 2011.

FOR FURTHER INFORMATION CONTACT: Gayle Longest at (202) 482-3338, AD/CVD Operations, Office 3, Import Administration, International Trade Administration, U.S. Department of Commerce, 14th Street and Constitution Ave., NW., Washington, DC 20230.

SUPPLEMENTARY INFORMATION:

Background

On August 17, 1993, the Department published in the Federal Register the CVD order on CORE from Korea. See Countervailing Duty Orders and Amendments to Final Affirmative Countervailing Duty Determinations: Certain Steel Products from Korea, 58 FR 43752 (August 17, 1993). On September 14, 2010, the Department published in the Federal Register its Preliminary Results of the administrative review of this order for the period January 1, 2008, through December 31, 2008. See Preliminary Results, 75 FR 55745. In accordance with 19 CFR 351.213(b), this administrative review covers HYSCO, a producer and exporter of subject merchandise.

In the Preliminary Results, we indicated that we would request from the Government of Korea (GOK) a full translation of the Act on Special Measures for the Promotion of Specialized Enterprises for Parts and Materials. The GOK filed a timely response on September 17, 2010.

In the Preliminary Results, we invited interested parties to submit briefs or request a hearing. Neither the petitioner, U.S. Steel Corporation, nor the respondent commented on the Preliminary Results. Moreover, the Department did not conduct a hearing in this review because none was requested.

Although we received no comments from interested parties, the Department has reconsidered its findings regarding the Act on Special Measures for the Promotion of Specialized Enterprises for Parts and Materials program and the Act on the Promotion of the Development of Alternative Energy program in these final results. The revisions to our calculations and findings concerning these programs are addressed in the accompanying Decision Memorandum for the Countervailing Duty Administrative Review on Corrosion-Resistant Carbon Steel Flat Products From the Republic of Korea (Decision Memorandum), which is dated concurrently with and hereby adopted by this notice. Parties can find a complete discussion of these revisions and the corresponding recommendations in this public memorandum, which is on file in the Central Records Unit of the main commerce building. In addition, a complete version of the Decision Memorandum can be accessed directly on the World Wide Web at http://ia.ita.doc.gov/frn.

The paper copy and the electronic version of the Decision Memorandum are identical in content.

Scope of Order

Products covered by the order are CORE from Korea. These products include flat-rolled carbon steel products, of rectangular shape, either clad, plated, or coated with corrosion-resistant metals such as zinc, aluminum, or zinc-, aluminum-, nickel- or iron-based alloys, whether or not corrugated or painted, varnished or coated with plastics or other nonmetallic substances in addition to the metallic coating, in coils (whether or not in successively superimposed layers) and of a width of 0.5 inch or greater, or in straight lengths which, if of a thickness less than 4.75 millimeters, are of a width of 0.5 inch or greater and which measures at least 10 times the thickness or if of a thickness of 4.75 millimeters or more are of a width which exceeds 150 millimeters and measures at least twice the thickness. The merchandise subject to the order is currently classifiable in the Harmonized Tariff Schedule of the United States (HTSUS) at subheadings: 7210.30.0000, 7210.31.0000, 7210.39.0000, 7210.41.0000, 7210.49.0030, 7210.29.0090, 7210.60.0000, 7210.61.0000, 7210.70.6030, 7210.70.6060, 7210.70.6090, 7210.90.1000, 7210.90.6000, 7210.90.9000, 7212.20.0000, 7212.21.0000, 7212.29.0000, 7212.30.1030, 7212.30.1090, 7212.30.3000, 7212.30.5000, 7212.40.1000, 7212.40.5000, 7212.50.0000, 7212.60.0000, 7215.90.1000, 7215.90.3000, 7215.90.5000, 7217.12.1000, 7217.13.1000, 7217.19.1000, 7217.19.5000, 7217.20.1500, 7217.22.5000, 7217.23.5000, 7217.29.1000, 7217.29.5000, 7217.30.15.0000, 7217.32.5000, 7217.33.5000, 7217.39.1000, 7217.39.5000, 7217.90.1000 and 7217.90.5000. Although the HTSUS subheadings are provided for convenience and customs purposes, the Department's written description of the merchandise subject to the order is dispositive.

Period of Review

The POR for which we are measuring subsidies is from January 1, 2008, through December 31, 2008.

Final Results of Review

As noted above, the Department received no comments concerning the Preliminary Results. However, we find that certain changes are warranted in these final results. As a result, we have made adjustments to our calculations as explained in our Decision Memorandum. Therefore, in these final results, we find that HYSCO received a net subsidy of 0.05 percent ad valorem, a de minimis rate, during the POR.

Listed below are the programs we examined in the review and our findings with respect to each of these programs. For a complete analysis of the programs found to be countervailable, not to confer a benefit during the POR, not to be countervailable, and not to be used, see the Preliminary Results.

I. Programs Determined To Confer Subsidies During the POR

A. Short-Term Export Financing

B. Reduction in Taxes for Operation in Regional and National Industrial Complexes

C. GOK's Direction of Credit for Loans Issued Prior to 2002

D. R&D Grants and Loans under the Act on Special Measures for the Promotion of Specialized Enterprises for Parts and Materials

II. Programs That Provided No Benefits During the POR

A. Research and Development Grants Under the Industrial Development Act (IDA)

B. Energy Savings Fund Program

C. Overseas Resource Development Program: Loan from Korea Resources Corporation (KORES)

D. Overseas Resource Development Program: Loan from Korea National Oil Corporation (KNOC)

E. Long-Term Loans from the Korean Development Bank (KDB) Issued in Years 2002 through 2008

F. Overseas Resource Development Program: Loan from KEXIM

G. R&D Grants and Loans under the Act on the Promotion of the Development of Alternative Energy

III. Programs Found Not To Have Been Used During the POR

A. Reserve for Research and Manpower Development Fund Under RSTA Article 9 (TERCL Article 8)

B. RSTA Article 11: Tax Credit for Investment in Equipment to Development Technology and Manpower (TERCL Article 10)

C. Reserve for Export Loss Under TERCL Article 16

D. Reserve for Overseas market Development Under TERCL Article 17

E. Reserve for Export Loss Under TERCL Article 22

F. Exemption of Corporation Tax on Dividend Income from Overseas Resources Development Investment Under TERCL Article 24

G. Tax Credits for Temporary Investments Under TERCL Article 27

H. Social Indirect Capital Investment Reserve Funds Under TERCL Article 28

I. Energy-Servings Facilities Investment Reserve Funds Under TERCL Article 29

J. Reserve for Investment (Special Cases of Tax for Balanced Development Among Areas Under TERCL Articles 41-45

K. Tax Credits for Specific Investments Under TERCL Article 71

L. Asset Revaluation Under Article 56(2) of the Tax Reduction and Exemption Control Act (TERCL)

M. Emergency Load Reduction Program

N. Electricity Discounts Under the Requested Loan Adjustment Program

O. Electricity Discounts Under the Emergency Load Reductions Program

P. Export Industry Facility Loans and Specialty Facility Loans

Q. Local Tax Exemption on Land Outside of a Metropolitan Area

R. Short-Term Trade Financing Under the Aggregate Credit Ceiling Loan Program Administered by the Bank of Korea

S. Industrial Base Fund

T. Excessive Duty Drawback

U. Private Capital Inducement Act

V. Scrap Reserve Fund

W. Special Depreciation of Assets on Foreign Exchange Earnings

X. Export Insurance Rates Provided by the Korean Export Insurance Corporation

Y. Loans from the National Agricultural Cooperation Federation

Z. Tax Incentives from Highly Advanced Technology Businesses Under the Foreign Investment and Foreign Capital Inducement Act

AA. Other Subsidies Related to Operations at Asan Bay: Provision of Land and Exemption of Port Fees Under the Harbor Act

AB. D/A Loans Issued by the Korean Development Bank and Other Government-Owned Banks

AC. R&D Grants Under the Promotion of Industrial Technology Innovation Act

AD. Export Loans by Commercial Banks Under KEXIM's Trade Bill Rediscounting Program

AE. Restriction of Special Taxation Act (RSTA) Article 94: Equipment Investment to Promote Worker's Welfare

Assessment Rates/Cash Deposits

The Department intends to issue assessment instructions to U.S. Customs and Border Protection (CBP) 15 days after the date of publication of these final results of review to liquidate shipments of subject merchandise by HYSCO entered, or withdrawn from warehouse, for consumption on or after January 1, 2008, through December 31, 2008, without regard to countervailing duties. We will also instruct CBP not to collect cash deposits of estimated countervailing duties on shipments of the subject merchandise by HYSCO entered, or withdrawn from warehouse, for consumption on or after the date of publication of these final results of review.

For all non-reviewed companies, the Department has instructed CBP to assess countervailing duties at the cash deposit rates in effect at the time of entry, for entries between January 1, 2008, and December 31, 2008. The cash deposit rates for all companies not covered by this review are not changed by the results of this review, and remain in effect until further notice.

Return or Destruction of Proprietary Information

This notice serves as a reminder to parties subject to administrative protective order (APO) of their responsibility concerning the disposition of proprietary information disclosed under APO in accordance with 19 CFR 351.305(a)(3). Timely written notification of return or destruction of APO materials or conversion to judicial protective order is hereby requested. Failure to comply with the regulations and the terms of an APO is a sanctionable violation.

We are issuing and publishing these results in accordance with sections 751(a)(1) and 777(i)(1) of the Tariff Act of 1930, as amended.

Dated: January 12, 2011.
Ronald K. Lorentzen,
Deputy Assistant Secretary for Import Administration.

[FR Doc. 2011-1160 Filed 1-19-11; 8:45 am]

BILLING CODE 3510-DS-P